DEPARTMENT OF HEALTH AND HUMAN SERVICES

Administration for Community Living

Availability of Program Application Instructions for MIPPA Program Funds

Title: Medicare Improvements for Patients and Providers Act: State Plans for Medicare Savings Program, Low Income Subsidy & Prescription Drug Enrollment Outreach and Assistance.

Announcement Type: Initial.

Funding Opportunity Number: CIP-MI-17-001.

Statutory Authority: The statutory authority for grants under this program announcement is contained in the 2006 Reauthorization of the Older Americans Act—Section 202 and the Medicare Improvements for Patients and Providers Act of 2008—Section 119, Public Law (PL) 110-275 as amended by the Patient Protection and Affordable Care Act of 2010 (Affordable Care Act), reauthorized by the American Taxpayer Relief Act of 2012 (ATRA), the Protecting Access to Medicare Act of 2014, and the Medicare Access and CHIP Reauthorization Act of 2015 (MACRA).

Catalog of Federal Domestic Assistance (CFDA) Number: 93.071.

Dates: The deadline date for the submission of MIPPA Program State Plans is 11:59PM EST August 14, 2017.

I. Funding Opportunity Description

The purpose of MIPPA funding is to enhance state efforts to provide assistance to Medicare beneficiaries through statewide and local coalition building focused on intensified outreach activities to beneficiaries likely to be eligible for the Low Income Subsidy program (LIS) or the Medicare Savings Program (MSP), and to assist those beneficiaries in applying for benefits. ACL will provide MIPPA program funding to State Health Insurance Assistance Programs (SHIPs), Area Agencies on Aging (AAAs), and Aging and Disability Resource Center programs (ADRCs) to inform Medicare beneficiaries about available Medicare program benefits. ACL seeks plans from states that will describe how the MIPPA program funds will be used for beneficiary outreach, education, and one-on-one application assistance over the next year.

ACL requests that states submit a one (1) year state plan with specific project strategies to expand, extend, or enhance their one-on-one assistance, education, and group outreach efforts to Medicare beneficiaries on Medicare and assistance programs for those with limited incomes. States should describe how the SHIP, AAA, and ADRC efforts will be coordinated to provide outreach to beneficiaries with limited incomes statewide. States that are eligible to apply are asked to review previous MIPPA plans and update these plans to reflect successes achieved to date and direct their efforts to enhance and expand their MIPPA outreach activities. State agencies may prepare either one statewide plan or separate plans for each eligible State agency.

II. Award Information

1. Funding Instrument Type

These awards will be made in the form of grants to State Agencies for each MIPPA Priority Area:

Priority Area 1—Grants to State Agencies (the State Unit on Aging or the State Department of Insurance) that administer the State Health Insurance Assistance Program (SHIP) to provide enhanced outreach to eligible Medicare beneficiaries regarding their benefits, enhanced outreach and application assistance to individuals who may be eligible for the Medicare Low Income Subsidy (LIS) or the Medicare Savings Program (MSP), and for the purposes of conducting outreach activities aimed at preventing disease and promoting wellness.

Priority Area 2—Grants to State Units on Aging for Area Agencies on Aging to provide enhanced outreach to eligible Medicare beneficiaries regarding their Medicare benefits, enhanced outreach and one-on-one application assistance to individuals who may be eligible for the LIS or the MSP, and for the purposes of conducting outreach activities aimed at preventing disease and promoting wellness.

Priority Area 3—Grants to State Units on Aging that administer the Aging and Disability Resource Centers to provide outreach to individuals regarding Medicare Part D benefits, benefits available under the LIS and MSP, and for the purposes of conducting outreach activities aimed at preventing disease and promoting wellness.

2. Anticipated Total Priority Area Funding per Budget Period

ACL intends to make available, under this program announcement, grant awards for the three MIPPA priority areas. Funding will be distributed through a formula as identified in statute. The amounts allocated are based upon factors defined in statute and will be distributed to each priority area based on the formula. ACL will fund total project periods of up to one (1) year contingent upon availability of federal funds.

Priority Area 1—SHIP: $11.5 million in FY 2017 for state agencies that administer the SHIP Program.

Priority Area 2—AAA: $7.9 million in FY 2017 for State Units on Aging for Area Agencies on Aging and for Native American programs. Funding for Native American Programs ($270,000) is deducted from Priority 2 and is being allocated through a separate process.

Priority Area 3—ADRC: $6 million in FY 2017 for State Agencies that received an ACL, Centers for Medicare and Medicaid Services (CMS), Veterans Health Administration (VHA) Aging and Disability Resource Center (ADRC)/No Wrong Door System (NWD) grant to support the development of their ADRC/NWD Systems.

III. Eligibility Criteria and Other Requirements

1. Eligible Applicants for MIPPA Priority Areas 1, 2 and 3: Awards made under this announcement, by statute, will be made only to agencies of State Governments.

Priority Area 1: Only existing SHIP grant recipients are eligible to apply.

Priority Area 2: Only State Units on Aging are eligible to apply.

Priority Area 3: Only State Agencies that received an ACL, CMS, VHA Aging and Disability Resource Center (ADRC)/No Wrong Door System (NWD) grant to support the development of their ADRC/NWD Systems are eligible for MIPPA funding in FY 2017.

Eligibility may change if future funding is available.

2. Cost Sharing or Matching is not required.

3. DUNS Number.

All grant applicants must obtain and keep current a D-U-N-S number from Dun and Bradstreet. It is a nine-digit identification number, which provides unique identifiers of single business entities. The D-U-N-S number can be obtained from: https://iupdate.dnb.com/iUpdate/viewiUpdateHome.htm.

4. Intergovernmental Review

Executive Order 12372, Intergovernmental Review of Federal Programs, is not applicable to these grant applications.

IV. Submission Information

1. Application Kits

Application kits/Program Instructions are available at www.grantsolutions.gov. Instructions for completing the application kit will be available on the site.

2. Submission Dates and Times

To receive consideration, applications must be submitted by 11:59 p.m. Eastern time on August 14, 2017, through www.GrantSolutions.gov.

V. Agency Contacts

Direct inquiries regarding programmatic issues to U.S. Department of Health and Human Services, Administration for Community Living, Office of Healthcare Information and Counseling, Washington, DC 20201, attention: Isaac C. Long or by calling 202-795-7315 or by email isaac.long@acl.hhs.gov.

Dated: June 9, 2017.
Daniel P. Berger,
Acting Administrator and Assistant Secretary for Aging.

[FR Doc. 2017-12339 Filed 6-13-17; 8:45 am]

BILLING CODE 4154-01-P